DEPARTMENT OF ENERGY

Federal Energy Regulatory Commission

[Docket No. CP07-32-000]

Gulf South Pipeline Company, LP; Notice of Availability of the Final Environmental Impact Statement for the Proposed Southeast Expansion Project

August 3, 2007.

The staff of the Federal Energy Regulatory Commission (FERC or Commission) has prepared this Final Environmental Impact Statement (EIS) for the natural gas pipeline facilities proposed by Gulf South Pipeline Company, LP (Gulf South) under the above-referenced docket. Gulf South's Southeast Expansion Project (Project) would be located in various counties and parishes in eastern Louisiana, Mississippi, and western Alabama.

The Final EIS was prepared to satisfy the requirements of the National Environmental Policy Act. The FERC staff concludes that the proposed Project, with the appropriate mitigation measures as recommended, would have limited adverse environmental impact.

The U.S. Fish and Wildlife Service (FWS), U.S. Environmental Protection Agency (EPA), and the U.S. Army Corps of Engineers (COE) are federal cooperating agencies for the development of this EIS. A federal cooperating agency has jurisdiction by law or special expertise with respect to any environmental impact involved with the proposal and is involved in the NEPA analysis.

Gulf South indicates that the general purpose of the proposed Project is to provide producers in eastern Texas and northern Louisiana an eastern market outlet for production from CenterPoint Energy Gas Transmission Company in the Perryville, Louisiana, area.

The Final EIS addresses the potential environmental impacts resulting from the construction and operation of the following facilities:

• Approximately 111 miles of 42-inch-diameter natural gas transmission pipeline extending easterly from Simpson County, Mississippi, to Choctaw County, Alabama;

• Three new compressor stations, the Delhi, Harrisville, and Destin Compressor Stations, located in Richland County, Louisiana; Simpson County, Mississippi; and Choctaw County, Alabama, respectively; and

• Other ancillary facilities including five meter and regulator (M/R) facilities, eight mainline valves, one side valve, and two pig launcher and/or receiver facilities.

Dependent upon Commission approval, Gulf South proposes to complete construction and begin operating the proposed Project in January 2008.

The Final EIS has been placed in the public files of the FERC and is available for public inspection at:Federal Energy Regulatory Commission, Public Reference Room, 888 First Street, NE., Room 2A,Washington, DC 20426, (202) 502-8371.

A limited number of copies of the Final EIS are available from the Public Reference Room identified above. In addition, CD copies of the Final EIS have been mailed to affected landowners; various federal, state, and local government agencies; elected officials; environmental and public interest groups; Native American tribes; local libraries and newspapers; intervenors; and other individuals that expressed an interest in the proposed Project. Hard-copies of the Final EIS have also been mailed to those who requested that format during the scoping and comment periods for the proposed Project.

In accordance with the Council on Environmental Quality's (CEQ) regulations implementing NEPA, no agency decision on a proposed action may be made until 30 days after the U.S. Environmental Protection Agency (EPA) publishes a notice of availability of a Final EIS. However, the CEQ regulations provide an exception to this rule when an agency decision is subject to a formal internal process that allows other agencies or the public to make their views known. In such cases, the agency decision may be made at the same time the notice of the Final EIS is published, allowing both periods to run concurrently. Should the FERC issue Gulf South authorizations for the proposed Project, it would be subject to a 30-day rehearing period. Therefore, the Commission could issue its decision concurrently with the EPA's notice of availability.

Additional information about the proposed Project is available from the Commission's Office of External Affairs, at 1-866-208-FERC or on the FERC Internet Web site (http://www.ferc.gov). To access information via the FERC Web site, click on the “eLibrary” link, then click on “General Search” and enter the docket number (CP07-032), excluding the last three digits, in the Docket Number field. Be sure you have selected an appropriate date range. The “eLibrary” link provides access to the texts of formal documents issued by the Commission, such as orders, notices, and rulemakings. For assistance with “eLibrary,” please contact FERC Online Support at FercOnlineSupport@ferc.gov or toll-free at 1-866-208-3676, or for TTY, contact (202) 502-8659.

In addition, the Commission now offers a free service called eSubscription that allows you to keep track of all formal issuances and submittals in specific dockets. This can reduce the amount of time you spend researching proceedings by automatically providing you with notification of these filings, document summaries, and direct links to these documents. To learn more about eSubscription and to sign-up for this service, please go to http://www.ferc.gov/esubscribenow.htm.

Kimberly D. Bose,
Secretary.

[FR Doc. E7-15628 Filed 8-9-07; 8:45 am]

BILLING CODE 6717-01-P